DEPARTMENT OF THE INTERIOR

Bureau of Land Management

[20XL1109AF LLUTG02000 L12200000.PM0000 241A]

Call for Nominations for the San Rafael Swell Recreation Area Advisory Council

AGENCY: Bureau of Land Management, Interior.

ACTION: Notice.

SUMMARY: The purpose of this notice is to request public nominations for two members to the San Rafael Swell Recreation Area Advisory Council (Council).

DATES: A completed nomination form and accompanying nomination/recommendation letters must be received by September 21, 2020.

ADDRESSES: Send nominations to Christopher Conrad, BLM Price Field Manager, 125 South 600 West, Price, Utah 84501, Attention: San Rafael Swell Advisory Council Nominations, or email cconrad@blm.gov with the subject line “San Rafael Swell Advisory Council Nominations.” The Price Field Office will accept public nominations for 30 days from the date this notice is posted.

FOR FURTHER INFORMATION CONTACT: Christopher Conrad, BLM Price Field Manager; 125 South 600 West, Price, Utah 84501, telephone (435) 636-3637, or email cconrad@blm.gov. Persons who use a telecommunications device for the deaf may call the Federal Relay Service (FRS) at 1-800-877-8339 to leave a message or question for the above individual. The FRS is available 24 hours a day, seven days a week. Replies are provided during normal business hours.

SUPPLEMENTARY INFORMATION: The John D. Dingell, Jr. Conservation, Management, and Recreation Act, Section 1223, directs the Secretary of the Interior to establish a seven-member citizen-based advisory council that is regulated by the Federal Advisory Committee Act (5 U.S.C. Appendix 2) and section 309 of the Federal Land Policy and Management Act. The BLM rules governing advisory committees are found at 43 CFR subpart 1784.

The Council shall advise the Secretary with respect to the preparation and implementation of the management plan for the San Rafael Swell Recreation Area. Congress created the San Rafael Swell Recreation Area to provide for the protection, conservation, and enhancement of the recreational, cultural, natural, scenic, wildlife, ecological, historical, and educational resources of the area. Council duties and responsibilities are solely advisory in nature.

The Council is seeking nominations in the following categories:

(1) A representative of conservation organizations; and

(2) An elected leader of a federally recognized Tribe that has significant cultural or historical connections to, and expertise in, the landscape, archeological sites, or cultural sites within the County.

Members will be appointed to the Council to serve three-year staggered terms.

Nominating Potential Members: Nomination forms may be obtained from the Price Field Office (address listed above) or at https://www.blm.gov/get-involved/resource-advisory-council/near-you/Utah. All nominations must include a completed Resource Advisory Council application (OMB Control No. 1004-0204), letters of reference from the represented interests or organizations, and any other information that speaks to the candidate's qualifications.

The specific category the nominee would be representing should be identified in the letter of nomination and on the application form.

Members of the Council serve without compensation. However, while away from their homes or regular places of business, Council members engaged in Council business may be allowed travel expenses, including per diem in lieu of subsistence, as authorized by 5 U.S.C. 5703, in the same manner as persons employed intermittently in Federal Government service.

The Council will meet approximately two to four times annually, and at such other times as designated by the Designated Federal Officer.

Before including your address, phone number, email address, or other personal identifying information in your comment, please be aware that your entire comment, including your personal identifying information, may be made publicly available at any time. While you may request in your comment to withhold your personal identifying information from public review, the BLM cannot guarantee that it will be able to do so.

Authority: 43 CFR 1784.4-1.

Gregory Sheehan,
State Director.

[FR Doc. 2020-18403 Filed 8-20-20; 8:45 am]

BILLING CODE 4310-DQ-P